DEPARTMENT OF ENERGY

Federal Energy Regulatory Commission

[Docket No. RP02-503-000]

Northwest Pipeline Corporation; Notice of Proposed Changes in FERC Gas Tariff

August 27, 2002.

Take notice that on August 19, 2002, Northwest Pipeline Corporation (Northwest) tendered for filing as part of its FERC Gas Tariff, the following tariff sheets, to be effective October 1, 2002:

Third Revised Volume No. 1

Eighteenth Revised Sheet No. 14.

Original Volume No. 2

Thirty-Third Revised Sheet No. 2.1.

Northwest states that the purpose of this filing is to propose an increase from 1.71% to 1.72% in the fuel reimbursement factor (Factor) for Northwest's transportation rate schedules. The Factor allows Northwest to be reimbursed in-kind for the fuel used during the transmission of gas and for the volumes of gas lost and unaccounted-for that occur as a normal part of operating the transmission system.

Northwest states that a copy of this filing has been served upon Northwest's customers and interested state regulatory commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-22298 Filed 8-30-02; 8:45 am]

BILLING CODE 6717-01-P